DEPARTMENT OF JUSTICE

Notice of Extension to Public Comment Period for Remedial Design/Remedial Action Consent Decree under the Comprehensive Environmental Response, Compensation, and Liability Act

On December 6, 2012, the Department of Justice lodged a proposed Remedial Design/Remedial Action Consent Decree (“RD/RA Consent Decree”) with the United States District Court for the Northern District of Alabama, Eastern Division in the lawsuit entitled, United States of America v. Pharmacia Corporation and Solutia, Inc., Civil Action No. 1;02-cv-0749-KOB. The RD/RA Consent Decree resolves a portion of the United States' claims against the Defendants. Under the RD/RA Consent Decree, the Defendants will undertake cleanup activities at an area that is part of the Anniston PCB Superfund Site designated as Operable Unit 3, which covers approximately 138 acres, including the active manufacturing area. OU 3 is generally bounded by to the north by the Northern Southern and Erie Railroads, to the east by Clydesdale Avenue, to the west by and including the West End Landfill and an Alabama Power Company substation, and to the south by and including the South End Landfill and Highway 202.

In addition to remedial activities, the RD/RA Consent Decree requires the Defendants to reimburse EPA for its oversight of work performed under the Decree by the Defendants.

The prior notice indicated that the Department of Justice would receive comments concerning the settlement for a period of thirty (30) days from the date of publication of the notice on December 13, 2012. Having received a request for an extension of the initial comment period and given the public interest in this settlement, the United States is extending the comment period for an additional thirty (30) days.

The Department of Justice will receive, for a period of thirty (30) days from January 14, 2013, any comments relating to the proposed RD/RA Consent Decree. Comments should be addressed to the Assistant Attorney General, Environment and Natural Resources Division, and should refer to the United States of America v. Pharmacia Corporation and Solutia, Inc., D.J. Ref. No. 90-11-2-07135/1. All comments must be submitted no later than February 13, 2013. Comments may be submitted by email or by mail:

To submit comments: | Send them to:
By email | pubcomment-ees.enrd@usdoj.gov.
By mail | Assistant Attorney General, U.S. DOJ—ENRD, P.O. Box 7611, Washington, DC 20044-7611.

During the public comment period, the RD/RA Consent Decree may be examined and downloaded at the this Justice Department Web site: http://www.usdoj.gov/enrd/Consent-Decree.html. We will provide a paper copy of the RD/RA Consent Decree upon written request and payment of reproduction costs.

Consent Decree Library, U.S. DOJ—ENRD, P.O. Box 7611, Washington, DC 20044-7611.

Please enclose a check or money order for $71.25 (25 cents per page reproduction costs) payable to the United States Treasury. For a copy of the proposed Consent Decree without the exhibits, the reproduction cost is $12.25.

Henry Friedman,
Assistant Section Chief, Environmental Enforcement Section, Environment and Natural Resources Section.

[FR Doc. 2012-30970 Filed 12-21-12; 4:15 pm]

BILLING CODE P